DEPARTMENT OF HEALTH AND HUMAN SERVICES

Food and Drug Administration

[Docket No. FDA-2016-F-3880]

Novus International, Inc.; Filing of Food Additive Petition (Animal Use); Correction

AGENCY: Food and Drug Administration, HHS

ACTION: Notice; correction.

SUMMARY: The Food and Drug Administration is correcting a notice entitled “Novus International, Inc.; Filing of Food Additive Petition (Animal Use)” that appeared in the Federal Register of November 8, 2016 (81 FR 78528). The document announced that Novus International, Inc., has filed a petition proposing that the food additive regulations be amended to provide for the safe use of poly (2-vinylpyridine-co-styrene) as a nutrient protectant for methionine hydroxy analog in animal food for beef cattle, dairy cattle, and replacement dairy heifers. Additionally, the petition proposes that the food additive regulations be amended to provide for the safe use of ethyl cellulose as a binder for methionine hydroxy analog to be incorporated into animal food. The document was published with the incorrect docket number. This document corrects that error.

FOR FURTHER INFORMATION CONTACT: Lisa Granger, Food and Drug Administration, 10903 New Hampshire Ave., Bldg. 32, Rm. 3330, Silver Spring, MD 20993-0002, 301-796-9115, lisa.granger@fda.hhs.gov.

SUPPLEMENTARY INFORMATION: In the Federal Register of Tuesday, November 8, 2016, in FR Doc. 2016-26922, on page 78528, the following correction is made: On page 78528, in the first column, “Docket No. FDA-2014-F-0452” is corrected to read “Docket No. FDA-2016-F-3880”.

Dated: November 22, 2016.
Leslie Kux,
Associate Commissioner for Policy.

[FR Doc. 2016-28656 Filed 11-28-16; 8:45 am]

BILLING CODE 4164-01-P